DEPARTMENT OF ENERGY

Federal Energy Regulatory Commission

[Project No. 14475-000]

FFP Project 117, LLC; Notice of Preliminary Permit Application Accepted for Filing and Soliciting Comments, Motions To Intervene, and Competing Applications

On January 1, 2013, FFP Project 117, LLC filed an application for a preliminary permit, pursuant to section 4(f) of the Federal Power Act (FPA), proposing to study the feasibility of a hydropower project at the Kentucky River Lock and Dam #13 located on the Kentucky River near the town of Beattyville in Lee County, Kentucky. The sole purpose of a preliminary permit, if issued, is to grant the permit holder priority to file a license application during the permit term. A preliminary permit does not authorize the permit holder to perform any land-disturbing activities or otherwise enter upon lands or waters owned by others without the owners' express permission.

The proposed project would consist of the following: (1) A 300-foot-long, 43-foot-high concrete dam; (2) a reservoir with a surface area of 295 acres and a storage capacity of 5,540 acre-feet; (3) a 310-foot-long, 100-foot-wide intake channel with a 175-foot-long retaining wall; (4) a 110-foot-long, 80-foot-wide powerhouse containing two generating units with a total capacity of 5.0 megawatts; (5) a 230-foot-long, 110-foot-wide tailrace with a 110-foot-long retaining wall; (6) a 4.16/34.5 kilo-Volt (kV) substation; (7) a 2.2- mile-long access road; (8) a 0.3- mile-long, 34.5 kV transmission line. The project would have an average annual generation of 19,500 megawatt-hours.

Applicant Contact: Ms. Ramya Swaminathan, Free Flow Power Corporation, 239 Causeway Street, Suite 300, Boston, MA 02114. (978) 283-2822

FERC Contact: Chris Casey, christiane.casey@ferc.gov, (202) 502-8577.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14475) in the docket number field to access the document. For assistance, contact FERC Online Support.

Dated: May 16, 2013.
Kimberly D. Bose,
Secretary.

[FR Doc. 2013-12299 Filed 5-22-13; 8:45 am]

BILLING CODE 6717-01-P